DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of five individuals that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On May 9, 2022, OFAC determined that the property and interests in property subject to U.S. jurisdiction of the following persons are blocked under the relevant sanctions authority listed below.

Individuals

1. ADHIGUNA, Muhammad Dandi (a.k.a. ADHIGUNA LESMANA, Dandi; a.k.a. ADHIGUNA, Dandi Muhammad), Kayseri, Turkey; DOB 30 Jul 1996; POB Gresik, East Java, Indonesia; nationality Indonesia; Gender Male; Secondary sanctions risk: Section 1(b) of Executive Order 13224, as amended by Executive Order 13886; Passport B 0547698 (Indonesia) (individual) [SDGT] (Linked To: SUSANTI, Dwi Dahlia).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, DWI DAHLIA SUSANTI, a person whose property and interests in property are blocked pursuant to E.O. 13224.

2. RAMADHANI, Dini, Kayseri, Turkey; DOB 10 Mar 1993; nationality Indonesia; Gender Female; Secondary sanctions risk: Section 1(b) of Executive Order 13224, as amended by Executive Order 13886; Passport B 4286562 (Indonesia) (individual) [SDGT] (Linked To: SUSANTI, Dwi Dahlia).

Designated pursuant to section 1(a)(iii)(C) of E.O. 13224, as amended, for having materially assisted, sponsored, or provided financial, material, or technological support for, or goods or services to or in support of, DWI DAHLIA SUSANTI, a person whose property and interests in property are blocked pursuant to E.O. 13224.

3. HERYADI, Rudi, Bogor, West Java, Indonesia; DOB 21 Sep 1973; POB Cirebon, West Java, Indonesia; nationality Indonesia; Gender Male; Secondary sanctions risk: Section 1(b) of Executive Order 13224, as amended by Executive Order 13886; Passport B 2315612 (Indonesia) issued 15 Nov 2015 (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

4. KARDIAN, Ari, Cempakawarna Rt, Tasikmalaya, West Java, Indonesia; DOB 16 Feb 1990; POB Tasikmalaya, West Java, Indonesia; nationality Indonesia; Gender Male; Secondary sanctions risk: Section 1(b) of Executive Order 13224, as amended by Executive Order 13886; Passport A 8799177 (Indonesia) expires 28 Aug 2019 (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

5. SUSANTI, Dwi Dahlia, Idlib, Syria; Kel. Sambonjaya, Kec. Mangkubumi, Tasikmalaya, Indonesia; DOB 28 Jul 1976; nationality Indonesia; Gender Female; Secondary sanctions risk: Section 1(b) of Executive Order 13224, as amended by Executive Order 13886; Passport B 3306967 (Indonesia); Identification Number 197607281998032001 (Indonesia) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

Dated: May 9, 2022.
Bradley T. Smith,
Deputy Director, Office of Foreign Assets Control, U.S. Department of the Treasury.

[FR Doc. 2022-10306 Filed 5-12-22; 8:45 am]

BILLING CODE 4810-AL-P